Proclamation 10926 of April 29, 2025

418th Anniversary of the First Landing and the Raising of the Cape Henry Cross

By the President of the United States of America

A Proclamation

Four hundred and eighteen years ago, more than 100 men completed a grueling 144-day voyage from the countryside of England to the mouth of the Chesapeake Bay in search of opportunity in the New World.

Commissioned by King James I and the Virginia Company of London, these intrepid settlers charted three small ships—the Susan Constant, the Godspeed, and the Discovery—to set sail on a perilous journey across the Atlantic to expand the reach of the English Crown into unknown lands, create a better future for their families, and further the “Glory of His Divine Majesty.”

Known as the “First Landing,” the seeds of America's destiny were sown when this courageous band of Christians erected a towering wooden cross at the crest of Cape Henry, Virginia. Under the First Charter of Virginia, which commissioned the voyage, they consecrated the New World, gave thanks to God for their safe passage, and dedicated the land to His glory. The raising of the Cape Henry Cross was a visible symbol of the covenant the settlers made on their first day in the New World—for themselves and their posterity—to obey God, seek His blessing, and place their trust in Him.

Within weeks, the men traveled inland to establish Jamestown—the first permanent English settlement in the New World. “We hope to plant a nation where none before hath stood,” one early settler sang in a ballad. In the months and years that followed, the settlers at Jamestown would face grave dangers and extraordinary challenges, including a severe drought, starvation, and disease. By the first year's end, only 38 of the original 104 men had survived. Yet, by the grace of God, Jamestown endured and the American spirit of courage, strength, and determination was born.

Today, a majestic granite cross stands on those same hallowed shores as a testament to the steadfast Christian belief of the Jamestown settlers that God's grace abides, His mercy is abundant, and His glory is everlasting. Our Nation honors the heroic souls whose faithful devotion and uncommon courage more than 400 years ago foreshadowed the birth of the greatest Republic in the history of the world—and it is in their memory that we pledge to forge a future that always celebrates our history, honors our heritage, and glorifies our God Almighty.

More than four centuries after the First Landing, we prayerfully renew our covenant to always be one Nation under God and to always seek His blessing and protection.

NOW, THEREFORE, I, DONALD J. TRUMP, President of the United States of America, by virtue of the authority vested in me by the Constitution and the laws of the United States, do hereby proclaim April 29, 2025, as a day in celebration of the 418th anniversary of the First Landing and the Raising of the Cross at Cape Henry, Virginia, by the Jamestown settlers.

IN WITNESS WHEREOF, I have hereunto set my hand this twenty-ninth day of April, in the year of our Lord two thousand twenty-five, and of the Independence of the United States of America the two hundred and forty-ninth.

[FR Doc. 2025-07834

Filed 5-1-25; 11:15 am]

Billing code 3395-F4-P